COMMITTEE FOR PURCHASE FROM PEOPLE WHO ARE BLIND OR SEVERELY DISABLED

Procurement List; Proposed Deletions

AGENCY: Committee for Purchase From People Who Are Blind or Severely Disabled.

ACTION: Proposed deletions from the Procurement List.

SUMMARY: The Committee is proposing to delete product(s) from the Procurement List that were furnished by nonprofit agencies employing persons who are blind or have other severe disabilities.

DATES: Comments must be received on or before: November 05, 2023.

ADDRESSES: Committee for Purchase From People Who Are Blind or Severely Disabled, 355 E Street SW, Suite 325, Washington, DC 20024.

FOR FURTHER INFORMATION CONTACT: For further information or to submit comments contact: Michael R. Jurkowski, telephone: (703) 785-6404, or email CMTEFedReg@AbilityOne.gov.

SUPPLEMENTARY INFORMATION: This notice is published pursuant to 41 U.S.C. 8503 (a)(2) and 41 CFR 51-2.3. Its purpose is to provide interested persons an opportunity to submit comments on the proposed actions.

Deletions

The following product(s) are proposed for deletion from the Procurement List:

Product(s)

NSN(s)—Product Name(s):

7510-01-600-8023—Dated 2023 12-Month 2-Sided Laminated Wall Planner, 24″ x 37″

7510-01-600-7581—Wall Calendar, Dated 2023, Wire Bound w/hanger, 15.5″ x 22″

7510-01-600-7588—Monthly Wall Calendar, Dated 2023, Jan-Dec, 8-1/2″ x 11″

7510-01-600-7634—Wall Calendar, Dated 2023, Wire Bound w/Hanger, 12″ x 17″

7510-01-682-8100—Wall Calendar, Recycled, Dated 2023, Vertical, 3 Months, 12-1/4″ x 26″

7510-01-682-8093—Monthly Planner, Recycled, Dated 2023, 14-month, 6-7/8″ x 8-3/4″

7510-01-682-8112—Professional Planner, Dated 2023, Recycled, Weekly, Black, 8-1/2″ x 11″

7530-01-600-7580—Daily Desk Planner, Dated 2023, Wire bound, Non-refillable, Black Cover

7530-01-600-7606—Monthly Desk Planner, Dated 2023, Wire Bound, Non-refillable, Black Cover

7530-01-600-7615—Weekly Desk Planner, Dated 2023, Wire Bound, Non-refillable, Black Cover

7530-01-600-7626—Weekly Planner Book, Dated 2023, 5″ x 8″, Black

Designated Source of Supply: Chicago Lighthouse Industries, Chicago, IL

Contracting Activity: GSA/FAS ADMIN SVCS ACQUISITION BR(2, NEW YORK, NY

Michael R. Jurkowski,
Acting Director, Business Operations.

[FR Doc. 2023-22275 Filed 10-5-23; 8:45 am]

BILLING CODE 6353-01-P